DEPARTMENT OF HEALTH AND HUMAN SERVICES

Health Resources and Services Administration

Solicitation of Nominations for Membership To Serve on the Council on Graduate Medical Education

AGENCY: Health Resources and Services Administration (HRSA), Department of Health and Human Services (HHS).

ACTION: Request for nominations.

SUMMARY: HRSA is seeking nominations of qualified candidates for consideration for appointment as members of the Council on Graduate Medical Education (COGME or Council). COGME provides advice and recommendations on policy, program development, and other matters of significance concerning the physician training and the physician workforce. Issues addressed by COGME include the supply and distribution of the physician workforce in the United States, including any projected shortages or excesses of physicians in medical and surgical specialties and subspecialities; international medical graduates; the nature and financing of undergraduate and graduate medical education; appropriation levels for certain programs under title VII of the PHS Act; and deficiencies in databases of the supply and distribution of the physician workforce and postgraduate programs for training physicians.

DATES: HRSA will accept nominations on a continuous basis.

ADDRESSES: Nomination packages may be mailed to Advisory Council Operations, Bureau of Health Workforce, HRSA, Room 15N-35, 5600 Fishers Lane, Rockville, Maryland 20857 or submitted electronically by email to: BHWAdvisoryCouncilFRN@hrsa.gov.

FOR FURTHER INFORMATION CONTACT: Curi Kim, M.D., MPH, at 240-472-2313 or email at ckim@hrsa.gov. A copy of the current COGME charter, membership, and reports can be obtained by accessing the COGME website at https://www.hrsa.gov/advisory-committees/graduate-medical-edu.

SUPPLEMENTARY INFORMATION: Authorized in 1986, COGME submits advice and recommendations to the Secretary of HHS; the Senate Committee on Health, Education, Labor and Pensions; and the House of Representatives Committee on Energy and Commerce. Additionally, COGME encourages entities providing graduate medical education to voluntarily achieve the recommendations of the Council. Meetings take place at least twice per year.

Nominations: HRSA is requesting nominations for voting members to serve as Special Government Employees on COGME to include individuals who represent of practicing primary care physicians, national and specialty physician organizations, international medical graduates, medical student and house staff associations, schools of allopathic and osteopathic medicine, public and private teaching hospitals, and health insurers, business, and labor. The Secretary of HHS appoints COGME members to fulfill the duties of the Council. Interested applicants may self-nominate or be nominated by another individual or organization.

Individuals selected for appointment to COGME will be invited to serve for 4 years. Members appointed as SGEs receive a stipend and reimbursement for per diem and travel expenses incurred for attending COGME meetings and/or conducting other business on behalf of COGME, as authorized by section 5 U.S.C. 5703 for persons employed intermittently in government service and PHS Act section 762(g).

A nomination package should include the following information for each applicant: (1) if nominated by another individual or organization, a letter of recommendation from the nominator stating the basis for the nomination (i.e., what specific attributes, perspectives, and/or skills does the individual possess that would benefit the workings of COGME) and the nominee's field(s) of expertise as well as the nominator's name, affiliation, and contact information (address, daytime telephone number, and email address); (2) a letter of interest from the applicant stating the reasons the applicant would like to serve on COGME; and (3) a biographical sketch of the applicant, including the applicant's curriculum vitae and contact information (address, daytime telephone number, and email address). Nomination packages may be submitted directly by the applicant or by the person/organization nominating the candidate.

HHS endeavors to ensure that the membership of COGME is balanced fairly in terms of points of view represented and that individuals from a broad representation of geographic areas, gender, and ethnic and minority groups, as well as individuals with disabilities, are considered for membership. Appointments shall be made without discrimination on the basis of age, race, ethnicity, gender, sexual orientation, disability, and or cultural, religious, or socioeconomic status.

Individuals who are selected to be considered for appointment will be required to provide detailed information regarding their financial holdings, consultancies, and research grants or contracts. Disclosure of this information is required for HRSA ethics officials to determine whether there is a potential conflict of interest between the Special Government Employee's public duties as a member of COGME and their private interests, including an appearance of a loss of impartiality as defined by federal laws and regulations, and to identify any required remedial action needed to address the potential conflict.

Authority: PHS Act Section 762 (42 U.S.C. 294o), as amended. COGME is governed by provisions of the Federal Advisory Committee Act, as amended (5 U.S.C. 10), which sets forth standards for the formation and use of advisory committees and applies to the extent that the provisions of the Federal Advisory Committee Act do not conflict with the requirements of PHS Act section 762.

Maria G. Button,
Director, Executive Secretariat.

[FR Doc. 2023-05782 Filed 3-20-23; 8:45 am]

BILLING CODE 4165-15-P